ENVIRONMENTAL PROTECTION AGENCY

[ER-FRL-8596-9]

Environmental Impacts Statements; Notice of Availability

Responsible Agency: Office of Federal Activities, General Information (202) 564-1399 or http://www.epa.gov/compliance/nepa/.

Weekly receipt of Environmental Impact Statements filed 08/24/2009 through 08/28/2009. Pursuant to 40 CFR 1506.9.

EIS No. 20090301, Final Supplement, NRS, WV,Lost River Subwatershed of the Potomac River Watershed Project, Construction of Site 16 on Lower Cove Run and Deletion of Site 23 on Cullers Run in the Lost River Watershed, Change in Purpose for Site 16 and Updates Information Relative to Site 23, U.S. Army COE Section 404 Permit, Hardy County, WV, Wait Period Ends: 10/05/2009, Contact: Kevin Wickey 304-284-7540.

EIS No. 20090302, Draft EIS, FHW, UT,Tooele County Midvalley Highway Project, To Address Traffic Congestion on UT-36 and at the I-80/Lake Point interchange through the Year 2030, Funding, Tooele County, UT, Comment Period Ends: 10/19/2009, Contact: Edward Woolford 801-963- 0182.

EIS No. 20090303, Draft EIS, AFS, OR,Upper Beaver Creek Vegetation Management Project, Proposes to Implement Multiple Resource Management Actions, Pauline Ranger District, Ochoco National Forest, Crook County, OR, Comment Period Ends: 10/19/2009, Contact: Slater Turner 541-477-6900

EIS No. 20090304, Final EIS, AFS, CA,Inyo National Forest Motorized Travel Management Project, Implementation, Inyo, Mineral, Mono and Esmeralda Counties, CA, Wait Period Ends: 10/05/2009, Contact: Susan Joyce 760-873-2516.

EIS No. 20090305, Final EIS, NOA, CA,ADOPTION—PROGRAMMATIC—South Bay Salt Pond Restoration Project, Restored Tidal Marsh, Managed Ponds, Flood Control Measures and Public Access Features, Don Edward San Francisco Bay National Wildlife Refuge, Alameda, Santa Clara and San Mateo Counties, CA, Wait Period Ends: 10/05/2009, Contact: Patricia A. Montanio 301-713-2325.

The U.S. Department of Commerce, National Oceanic and Atmospheric Administration's has adopted the U.S. Department of Interior's, Fish and Wildlife Service's FEIS #20070539 filed 12/17/2007. Fish and Wildlife Service was not a Cooperating Agency on the above FEIS. Under Section 1506.3(b) of the CEQ Regulations, the FEIS must be recirculated for a 30-day Wait Period.

EIS No. 20090306, Final EIS, NOA, CA,ADOPTION—PROGRAMMATIC—San Francisco Estuary Invasive Spartina Project, Spartina Control Program, Preservation and Restoration of Ecological Integrity for the Estuary's Intertidal Habitats, Alameda, Contra Costa, Marin, Napa, San Francisco, Santa Mateo Counties, CA, Wait Period Ends: 10/05/2009, Contact: Patricia A. Montanio 301-713-2325.

The U.S. Department of Commerce, National Oceanic and Atmospheric Administration's has adopted the U.S. Department of Interior's, Fish and Wildlife Service's FEIS #200400013 filed 01/12/2004. Fish and Wildlife Service was not a Cooperating Agency on the above FEIS. Under Section 1506.3(b) of the CEQ Regulations, the FEIS must be recirculated for a 30-day Wait Period.

EIS No. 20090307, Draft EIS, UCG, 00,PROGRAMMATIC—Ballast Water Discharge Standard Project, To Implement a Ballast Water Discharge Standard to Prevent or Reduce the Number of Non-indigenous Species introduced into the United States Waters, Comment Period Ends: 10/19/2009, Contact:Gregory B. Kirkbride 202-372-1479.

EIS No. 20090308, Draft Supplement, USN, FL,Renewal of Authorization to Use Pinecastle Range, New Information that was not Available in the 2002 FEIS, Continued Use of the Range for a 20 Year Period, Special Use Permit Issuance, Ocala National Forest, Marion and Lake Counties, FL, Comment Period Ends: 10/19/2009, Contact: Tom Currin 904-542-6301.

EIS No. 20090309, Final EIS, FHW, MO,Interstate 70 East Corridor Improvements, Kansas City to St. Louis, Evaluates if a Truck-Only Lane Strategy is Viable, Kansas City to St. Louis, MO, Wait Period Ends: 10/05/2009, Contact: David Beckhouse 720-963-3306.

Amended Notices

EIS No. 20090223, Draft EIS, AFS, NV,Jarbridge Ranger District Rangeland Management Project, Proposed Reauthorizing Grazing on 21 Existing Grazing Allotments, Humboldt Toiyabe National Forest, Elko County, NV, Comment Period Ends: 09/08/2009, Contact: Vern Keller 775-355-5356 Revision to FR Notice Published 07/10/2009: Extending Comment Period from 08/24/2009 to 09/08/2009.

EIS No. 20090265, Draft EIS, AFS, ID,Clearwater National Forest Travel Planning Project, Proposes to Manage Motorized and Mechanized Travel within the 1,827.380-Acre, Clearwater National Forest, Idaho, Clearwater, Latah and Shoshone Counties, ID, Comment Period Ends: 10/02/2009, Contact: Doug Gober 208-476-4541. Revision to FR Notice Published 08/07/2009: Extending Comment Period from 09/21/2009 to 10/02/2009

EIS No. 20090285, Draft EIS, NPS, CA,Warner Valley Comprehensive Site Plan, Addressing Natural and Cultural Resource Conflicts, Parking and Circulation Improvements in Warner Valley, Implementation, Lassen Volcanic National Park, Plumas County, CA, Comment Period Ends: 11/20/2009, Contact: Louise Johnson 530-595-4444 ext. 5170. Revision to FR Notice Published 08/21/2009: Correction to Comment Period from 11/21/2009 to 11/20/2009.

Dated: September 1, 2009.
Robert W. Hargrove,
Director, NEPA Compliance Division, Office of Federal Activities.

[FR Doc. E9-21387 Filed 9-3-09; 8:45 am]

BILLING CODE 6560-50-P